DEPARTMENT OF DEFENSE

Department of the Army

[Docket ID: USA-2024-HQ-0002]

Proposed Collection; Comment Request

AGENCY: Department of the Army, Department of Defense (DoD).

ACTION: 60-Day information collection notice.

SUMMARY: In compliance with the Paperwork Reduction Act of 1995, the Army Research Institute (ARI) for the Behavioral and Social Sciences announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 15, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Research Institute for the Behavioral & Social Sciences; 6000 6th Street, Fort Belvoir, VA 22060, ATTN: Dr. Krystal N. Roach, or call 703-545-2339.

SUPPLEMENTARY INFORMATION:

Title; Associated Form; and OMB Number: Experiences of Junior Soldiers in Alaska; OMB Control Number: 0702-ALSK.

Needs and Uses: At the direction of the Vice Chief of Staff of the Army and the Assistant Secretary for Manpower & Reserve Affairs (ASA M&RA), the ARI for the Behavioral and Social Sciences is completing a longitudinal examination of performance, attitudes, and behaviors of Soldiers who select to come to Alaska as their first duty station at time of enlistment, also known as Option 20 Soldiers. The U.S. Army has initiated a variety of actions aimed at improving quality of life for Soldiers in Alaska in order to reduce rates of harmful behaviors and increase the ability for Soldiers to thrive. This survey collection will collect data from a sample of Army junior enlisted Soldiers in Alaska to investigate the impacts of living and working in Alaska on effectiveness, quality of life, cohesion, leadership, recruiting and retention. ARI is also investigating potential differences between Option 20 Soldiers and Non-Option 20 Soldiers.

Affected Public: Individuals or households.

Annual Burden Hours: 200.

Number of Respondents: 400.

Responses per Respondent: 1.

Annual Responses: 400.

Average Burden per Response: 30 minutes.

Frequency: Once.

Dated: February 7, 2024.
Aaron T. Siegel,
Alternate OSD Federal Register Liaison Officer, Department of Defense.

[FR Doc. 2024-02957 Filed 2-12-24; 8:45 am]

BILLING CODE 6001-FR-P